DEPARTMENT OF EDUCATION

Notice Inviting Applications (NIA) for the FY 2020 Education Stabilization Fund—Reimagine Workforce Preparation (ESF-RWP) Grants Program

AGENCY: Office of Career, Technical, and Adult Education, Department of Education.

ACTION: Supplemental notice.

SUMMARY: The Department of Education (Department) is issuing an NIA for eligible applicants for the FY 2020 ESF-RWP Grants program under section 18001(a)(3) of Division B of the Coronavirus Aid, Relief, and Economic Security Act (CARES Act), Catalog of Federal Domestic Assistance (CFDA) number 84.425G. This notice relates to the approved information collection under OMB control number 1894-0006. This supplemental notice supersedes the notice published on April 27, 2020 at https://oese.ed.gov/offices/education-stabilization-fund/states-highest-coronavirus-burden/.

DATES:

Applications Available: June 23, 2020.

Deadline for Notice of Intent to Apply: July 13, 2020.

Deadline for Transmittal of Applications: August 24, 2020.

ADDRESSES: Pre-Application Information: The Department will post additional information for prospective applicants on the ESF-RWP program website: https://cte.ed.gov/grants/funding-opportunities.

For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

The addresses pertinent to this program, including the addresses for obtaining and submitting an application, can be found under SUPPLEMENTARY INFORMATION.

FOR FURTHER INFORMATION CONTACT: Erin Berg, U.S. Department of Education, 400 Maryland Avenue SW, Room 11113, PCP, Washington, DC 20202. Telephone: (202) 245-6792. Email: ESF-RWP@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the ESF-RWP Grants program is to provide support to help States with the highest coronavirus ¹ burden create or expand short-term education and training opportunities and/or or career pathways programs that help citizens return to work, become entrepreneurs, or expand their small businesses (as described under Absolute Priority 1); or to enable States to create or expand small business incubators that offer education and training, mentorship, as well as shared facilities and resources that will help small businesses recover and grow and new entrepreneurs thrive (as described under Absolute Priority 2).

¹ See CARES Act, Sec. 18001(a)(3).

Short-term educational programs or career pathways programs created or expanded under Absolute Priority 1 of this program must lead to certificates, badges, micro-credentials, licenses, or other workplace-relevant credentials that respond to the needs of employers or facilitate entrepreneurship. By definition, career pathways programs must also enable participants who have not already completed a high school diploma or equivalent to earn such a diploma or equivalent. Short-term educational and career pathways programs supported under this program must create opportunities for individuals to more rapidly prepare for, and over time adapt to, changing workplace needs or to start or grow a small business.

Grant funds may be used under Absolute Priority 1 to develop and implement short-term education and training programs and/or career pathways programs, hire qualified instructors, procure necessary equipment and supplies, and subsidize tuition and fees for individuals enrolled in these or existing short-term educational, workforce development or career pathways programs so that they can quickly gain entry to the workforce or become entrepreneurs without taking on debt. Funds may also be used to provide student uniforms, protective gear, student support services and transportation vouchers for all students, as well as childcare support for student-parents who are enrolled in education and training programs supported by programs developed under this grant program.

Unlike traditional degree and certificate programs which are typically designed by educators, this grant program is designed to support efforts led by State Workforce Development Boards, in partnership with groups of employers, industry organizations, and education and training partners to identify workplace competencies, develop curriculum and assessments that help workers gain and demonstrate those competencies, and establish a credentialing system that employers will use to make hiring and promotion decisions within their organizations. The Department encourages applicants to review existing occupational frameworks and incorporate them, to the extent possible, in their efforts. The program does not seek to fund the development of new occupational frameworks where existing frameworks that have been endorsed by employers or industry sectors already exist.²

² For example, the NICE Framework (https://niccs.us-cert.gov/workforce-development/cyber-security-workforce-framework) should be utilized for the development of programs preparing individuals to meet the demands of cybersecurity in various aspects of the information technology industry, and the Department of Labor has supported the development of a number of industry-led competency frameworks for use in designing education and training programs that meet employer needs (see https://www.urban.org/policy-centers/center-labor-human-services-and-population/projects/competency-based-occupational-frameworks-registered-apprenticeships and https://www.careeronestop.org/CompetencyModel/).

While grants will be made to State Workforce Boards, these recipients may partner with business and trade organizations, employers or groups of employers, Standards Recognition Entities (SREs),³ Institutions of Higher Education (IHEs), third-party intermediaries who help employers design and implement work-based learning programs, and other education and training providers.

³ U.S. Department of Labor, “Industry-Recognized Apprenticeship Program,” https://www.apprenticeship.gov/industry-recognized-apprenticeship-program.

This grant program also supports a second activity, which is designed to cultivate entrepreneurship by supporting the development of small business incubators located on the campuses of, or developed in association with, colleges and universities. These incubators provide, among other things, short-term educational and training programs or continuing education courses to help entrepreneurs establish and grow their businesses, comply with or exceed industry standards, and meet State and occupational health, safety and licensure requirements. In addition to educational offerings, small business incubators also provide mentorship from faculty and other business professionals, and typically offer shared space, services, staffing and equipment to help small businesses get started and grow.

These small business incubators create new opportunities for colleges and universities to expand their offerings and create new revenue streams so that institutions can also become entrepreneurial at a time when declining enrollments and COVID-19 related disruptions may result in longer-term underutilization of campus facilities. In this regard, these funds assist in the stabilization of institutions and the local economy.

Background: Section 18001(a)(3) of the CARES Act directs the Secretary to allocate 1 percent of the Education Stabilization Fund appropriated by the Act to provide grants to States with the highest coronavirus burden to support education and training activities, as well as economic stabilization activities, described under section 18001 of the CARES Act or the Higher Education Act of 1965, as amended.

Our goals in administering these grants include, among other things, creating new education and training opportunities designed to help dislocated workers quickly return to employment, expanding postsecondary options and opportunities, and supporting entrepreneurship in stabilizing both the local economy and institutions of higher education, thus restoring pre-pandemic economic growth.

The Department will make awards to State Workforce Boards that, at the Governor's direction, will award under Absolute Priority 1, subgrants to business organizations, trade associations, continuing education providers employer-based educational organizations, labor organizations, education and training organizations and institutions of higher education to create or expand innovative education and training opportunities, primarily through short-term educational programs and career pathways programs that are responsive to rapidly changing economic conditions, provide new opportunities for education providers to help more individuals meet employer needs and workforce demands, and/or help entrepreneurs succeed in rebuilding their businesses and finding new opportunities for growth.

This program will also engage States in developing mechanisms—such as creating competency exams and evaluations, developing tracking systems to monitor participant outcomes, and administering employer satisfaction surveys—for assuring the quality of short-term educational programs and for engaging business leaders in their development, implementation, and assessment.

Under Absolute Priority 2, State Workforce Boards will make subgrants available to colleges and universities, and/or college or university-affiliated entities, to support the development or expansion of campus-based or campus-affiliated small business incubator programs and facilities. The goal under Absolute Priority 2 is to improve the sustainability of institutions of higher education, expand learning opportunities in the State, support the continued employment of faculty and staff at educational organizations, and create new opportunities for entrepreneurs and small business owners to grow, become more resilient and thrive.

State Workforce Boards function under the Governor's direction, and include representatives of education, small business, labor and economic development, making them well suited to administer these grants on behalf of a State. Grants may support, through subgrants or contractual relationships, a variety of entities, including state higher education agencies, institutions of higher education, and other postsecondary and continuing education and training providers. Non-traditional educational providers, including those engaged in apprenticeship and other work-based learning opportunities (such as training providers under Workforce Innovation and Opportunity Act (WIOA) title I programs), National Apprenticeship sponsors, and Standards Recognition Entities are eligible to receive funds, through subgrants, as part of an ESF-RWP Grant project.

The coronavirus pandemic created a public health crisis that in turn generated a precipitous economic crisis unlike any we have seen in recent history. The economic challenges of today were not born of business failures, lack of good ideas, or declining consumer demand. In fact, prior to the outbreak of COVID-19, economic growth was stronger than ever before and unemployment was at its lowest point in fifty years.⁴ Moreover, prior to the pandemic, unemployment among underrepresented minorities and individuals with disabilities was at its lowest rate in history.

⁴ The White House, “U.S. Unemployment Rate Falls to 50-Year Low,” October 4, 2019, https://www.whitehouse.gov/articles/u-s-unemployment-rate-falls-50-year-low/.

However, when businesses were asked to close their doors, employees were required to work from home, and consumers were forced to find new ways to obtain goods and services—to protect public health—many workers found themselves suddenly unemployed.

The pandemic also had a tremendous impact on the many small businesses that anchor communities and drive the local and national economy. Almost all of America's businesses are small businesses,⁵ and 89 percent have fewer than 20 employees.⁶ As Governors and local officials issued COVID-19 stay at home orders to protect the health of citizens, there has been a dramatic, negative impact on the small business community across the United States.

⁵ J.P. Morgan Chase and Company, Small Businesses are an Anchor of the U.S. Economy, n.d. Retrieved from: https://www.jpmorganchase.com/corporate/institute/small-business-economic.htm.

⁶ U.S. Census Bureau, U.S. Department of Commerce, Number of Firms, Number of Establishments, Employment, and Annual Payroll by Enterprise Employment Size for the United States and States, Totals: 2017. Retrieved from: https://www2.census.gov/programs-surveys/susb/tables/2017/us_state_totals_2017.xlsx?#.

The pandemic also had an unprecedented impact on the nation's colleges and universities, forcing most to abandon use of their ground-based classrooms and campus facilities and engage in various modalities of distance learning. With some already struggling under declining enrollments, and others concerned that students will wait out a semester before returning to campus, there is concern that many institutions will not be able to enroll enough students to continue the employment of faculty and staff and maintain campus operations through the end of the calendar year. As a result, institutions must become entrepreneurial in finding new ways to more quickly meet the needs of students, employers, and their local community—and to do so at lower cost and in ways that generate significantly less student debt.

Institutions must find new uses for campus facilities that create novel revenue streams and expand the kinds of high-quality short-term learning opportunities available for students. In addition, States must do more to help those who lack a high school diploma or equivalency prepare for jobs and earn a post-secondary credential.

Institutions of higher education are not alone in their ability to provide high quality postsecondary education and training opportunities, and thus are not the sole entities eligible for subgrants under this program. The U.S. Department of Labor has identified the capacity of employers and trade associations in various industry sectors to work collaboratively to expand the number of high quality apprenticeship opportunities made available to prepare individuals for in-demand jobs without the burden of Direct Loan student debt.⁷ Moreover, employer participation in education and training programs improves the earnings and employment outcomes of program participant when compared to education provided without deep employer engagement.⁸ We believe that sector-based strategies can be equally or more effective than traditional college or university programs in providing short-term educational programs and training opportunities that help individuals continue their education and advance in their careers.

⁷ https://www.dol.gov/sites/dolgov/files/ETA/grants/pdfs/FOA-ETA-18-08.pdf.

⁸ Barnow, Burt S., and Shayne Spaulding. 2015. “Employer Involvement in Workforce Programs: What Do We Know?” In Transforming U.S. Workforce Development Policies for the 21st Century, edited by Carl Van Horn, Tammy Edwards, and Todd Greene. Atlanta, GA: Federal Reserve Bank of Atlanta, Federal Reserve Bank of Kansas City, and Rutgers University.

We applaud the Department of Labor for its efforts, and plan to leverage what we have learned from them and their successes to similarly employ sector-based strategies in expanding the number and types of education and training opportunities available to individuals, employers, and communities. Sector-based education, training, and credentialing strategies ensure the critical mass needed to sustain these programs and to ensure the long-term value of credentials earned.

Education and training opportunities supported with these funds can include Registered Apprenticeship Program Programs (RAP) and Industry Recognized Apprenticeship Programs (IRAPs), as well as other work-based learning and continuing education programs, and funds can support the development of curriculum or assessment tools as well as systems to maintain student records and verify credentials earned by students who complete these programs.

These funds may also be used to provide student stipends for work-based learning opportunities; subsidize tuition and fees for short-term educational programs and career pathways programs; procure or rent equipment and supplies necessary for instruction and assessment; provide pre-apprenticeship, adult education and literacy activities (as defined in this notice), including integrated education and training (as defined in this notice); provide supportive services for participants, including childcare vouchers and transportation vouchers, career guidance and academic counseling; and develop and implement interoperable learning record systems that record and communicate to potential employers verifiable information about an individual's credentials, skills, and achievements.

The Department of Education wishes to ensure that individuals, employers, educators and training providers have access to the most complete, current and beneficial information about providers, programs and credentials supported with these grant funds. To this end, the Department requires that information about all credentials (including but not limited to badges, certificates, certifications, licenses, and degrees of all levels and types) and competencies (knowledge, skills and abilities) developed or delivered through the use of these Federal funds be made publicly accessible through the use of linked open data formats that support full transparency and interoperability, such as through the use of credential transparency description language specifications.

Under Absolute Priority 2, funds may be used to convert underutilized campus-based or campus-affiliated facilities to small business incubators, to hire staff to operate the facility, to subsidize wages of faculty and entrepreneurs-in-residence, to purchase or rent equipment that will serve as a shared resource for incubator occupants or support the work of the incubator's administrative staff, to subsidize the cost to participants of enrolling in short-courses or continuing education opportunities and to subsidize on a sliding scale the rent paid by small businesses that are operating out of or using space, facilities or shared equipment or services provided by the incubator.

Applicants are encouraged to develop innovative solutions that move beyond traditional education and training regimes. The proposed project design should be supported by evidence that meets the standard of demonstrates a rationale (as defined in this notice). Applications may provide a framework that identifies key components on how the proposed strategy, program, or activity is informed by research or by the positive outcomes of earlier efforts that are similar to or serve as the foundation for the proposed project.⁹ These positive outcomes must suggest the proposed activity is likely to improve relevant outcomes (as defined in this notice). We encourage evidence that demonstrates a rationale for the proposed activity to ensure that some preliminary work has been done to demonstrate the merit of the proposal, while at the same time inviting the broadest possible range of innovative solutions that may not yet have been tested at scale or evaluated through experimental or quasi-experimental design.

⁹ This type of action can also be described as a logic model, as defined by 34 CFR 77.1.

Priorities: This notice contains two absolute priorities and three competitive preference priorities. We are establishing these priorities for the FY 2020 grant competition and any subsequent year in which we make awards from the list of unfunded applications from this competition, in accordance with section 437(d)(1) of the General Education Provisions Act (GEPA), 20 U.S.C. 1232(d)(1).

Absolute Priorities: These priorities are absolute priorities. Under 34 CFR 75.105(c)(3), we consider only applications that meet one of the two absolute priorities. The Secretary intends to award grants under each of Absolute Priorities 1 and 2 for which applications of sufficient quality are submitted. Because applications will be placed in rank order separately by Absolute Priority, applicants must clearly identify whether the proposed project addresses either Absolute Priority 1 or Absolute Priority 2. Each State Workforce Board may submit only one application under this competition that addresses either absolute priority, but not both.

These priorities are:

Absolute Priority 1

Projects that will focus on:

(a) Creating, developing, implementing, replicating, or taking to scale short-term educational programs and training courses or programs, and/or career pathways programs, including those focused on facilitating and strengthening entrepreneurship and small business ownership. Applicants must propose a project that focuses on one or more of the following activities: (1) Helping displaced workers return to gainful employment; (2) helping new workers enter jobs within in-demand industry sectors or occupations (as identified at the national, State or local level); (3) transitioning underemployed workers to new fields, or (4) assisting small business owners to gain the skills needed to create new businesses or grow current businesses and become more resilient; and/or

(b) Funding the creation, development, implementation, replication, or scaling of industry sector-based education and training models and programs that:

(1) Are initiated and organized by employer stakeholders, which may include business leaders, trade associations, professional societies or community businesses organizations;

(2) May partner with institutions of higher education or other post-secondary education and training providers; and

(3) May include the engagement of third-party intermediaries, which are organizations that help bridge the gap between employers and educational institutions to the benefit of students.

Projects under Absolute Priority 1(a) and 1(b) may include apprenticeships and other work-based learning programs and must provide individuals the opportunity to earn badges, certifications, micro-credentials, licenses, or other credentials that employers affirmatively signal will contribute to qualifying a candidate for employment or promotion in an in-demand industry sector or occupation (as defined in this notice).

Competitive Preference Priority 1: Within this absolute priority, we give competitive preference to applications that address the following priority:

Under 34 CFR 75.105(c)(2)(i) we award up to an additional five points to an application that meets Competitive Preference Priority 1. This priority is:

Competitive Preference Priority 1—Distance Education

The extent to which an application that proposes a project in which the short-term educational programs and training programs described above include didactic education that will be principally delivered through distance education (as defined in this notice); or

Competitive Preference Priority 2: Within this absolute priority, we give competitive preference to applications that serve lifelong learners in distressed communities.

We will award up to an additional three points to an application that addresses:

Competitive Preference Priority 2—Serving Lifelong Learners in Distressed Communities (0 to 3 points)

The extent to which an application proposes a project that focuses on the unique needs of individuals who reside in rural communities or Opportunity Zones, and that is designed to enable economic growth and development in those regions. This could include focusing primarily on in-demand jobs available to individuals in these communities, aligning education and job training opportunities with the strategic planning goals for economic development in the community, or meeting the unique needs of individuals who may have challenges related to transportation, childcare or limitations in access to technology associated with living and working in these communities.

For purposes of this competition, we will consider a community as rural if the community meets qualifications for rural applicants established in section 114(e)(5)(A) of Perkins V, and the applicant certifies that it meets those qualifications in its application.

Opportunity Zones must be census tracts designated by the Secretary of the Treasury under section 1400Z-1 of the Internal Revenue Code. An applicant must provide the census tract numbers of the Qualified Opportunity Zone(s) in which it proposes to provide services.

Absolute Priority 2

Projects that will focus on creating or supporting one or more IHE-based or IHE-affiliated small business incubators that leverage the facilities and/or instructional resources of one or more IHEs to support high-quality job growth, the establishment of small businesses important to the local economy or the development of technology commercialization. Applicants must propose a plan to provide education, training and mentorship; offer shared facilities, services, space or equipment; and facilitate partnerships and networks among business leaders that help entrepreneurs start or expand their core businesses or develop business adjacencies that will enable them expand into new markets, products or services.

Competitive Preference Priority 3: Within absolute priority 2, we give competitive preference to applications that address the following priority:

Competitive Preference Priority 3—Serving Entrepreneurs and Businesses in Distressed Communities (0 to 3 points)

(a) The applicant will locate the business incubator, or include as an affiliated partner in managing and administering an off-campus business incubator, at least one minority-serving institution of higher education that is eligible to receive assistance under sections 316 through 320 of part A of Title III, under part B of Title III, or under Title V of the Higher Education Act of 1965. An applicant must identify the minority-serving institution of higher education with which it will partner; or

(b) The applicant will locate the IHE-affiliated business incubator in a rural community or Opportunity Zone in order to support the business development goals of those communities and to enable businesses that are located in those regions and that employ individuals who live in those communities to thrive.

For purposes of this competition, we will consider a community as rural if the community meets qualifications for rural applicants established in section 114(e)(5)(A) of Perkins V, and the applicant certifies that it meets those qualifications in its application.

Opportunity Zones must be census tracts designated by the Secretary of the Treasury under section 1400Z-1 of the Internal Revenue Code. An applicant must provide the census tract numbers of the Qualified Opportunity Zone(s) in which it proposes to provide services.

Definitions: The definitions of “demonstrates a rationale,” “performance measure,” “performance target,” “project component,” and “relevant outcome” are from 34 CFR 77.1. The definition of “work-based learning” is from section 3 of the Carl D. Perkins Career and Technical Education Act of 2006, as amended by the Strengthening Career and Technical Education for the 21st Century Act. The definition of “institution of higher education” is from section 101 of the Higher Education Act of 1965, as amended (HEA). The definitions of “career pathway,” “dislocated worker,” and “recognized postsecondary credential” are from section 3 of the WIOA (29 U.S.C. 3102). The definitions of “adult education and literacy activities” and “integrated education and training” are from section 203 of the WIOA. The definition of Registered Apprenticeship and the definition of an Industry Recognized Apprenticeship are provided by the U.S. Department of Labor.¹⁰ The definition of “State” is from section 18007 of the CARES Act. We are establishing the definitions of “coronavirus burden,” “distance education,” “entrepreneurship education,” “industry sector-based education and training programs,” “industry-recognized credential,” “micro-credential,” “non-traditional education,” “pre-apprenticeship,” “small business incubator,” “short-term educational programs,” and “State Workforce Board,” “standards recognition entities,” “third-party intermediaries” for the FY 2020 grant competition and any subsequent year in which we make awards from the list of unfunded applications from this competition, in accordance with section 437(d)(1) of GEPA, 20 U.S.C. 1232(d)(1).

¹⁰ Federal Register, Vol 85, No. 48, Wednesday, March 11, 2020, pgs. 14294-14392 (https://www.govinfo.gov/content/pkg/FR-2020-03-11/pdf/2020-03605.pdf.

Adult education and literacy activities means programs, activities, and services that include adult education, literacy, workplace adult education and literacy activities, family literacy activities, English language acquisition activities, integrated English literacy and civics education, workforce preparation activities, or integrated education and training.

Career pathway ¹¹ means a combination of rigorous and high-quality education, training, and other services that—

¹¹ 29 U.S.C. 3102(7).

(a) Aligns with the skill needs of industries in the economy of the State or regional economy involved;

(b) Prepares an individual to be successful in any of a full range of secondary or postsecondary education options, including apprenticeships programs registered under the Act of August 16, 1937 (commonly known as the “National Apprenticeship Act”; 50 Stat. 664, chapter 663; 29 U.S.C. 50 et seq.);

(c) Includes counseling to support an individual in achieving the individual's education and career goals;

(d) Includes, as appropriate, education offered concurrently with and in the same context as workforce preparation activities and training for a specific occupation or occupational cluster;

(e) Organizes education, training, and other services to meet the particular needs of an individual in a manner that accelerates the educational and career advancement of the individual to the extent practicable;

(f) Enables an individual to attain a secondary school diploma or its recognized equivalent and at least one recognized postsecondary credential; and

(g) Helps an individual enter or advance within a specific occupation or occupational cluster.

Coronavirus burden means burden on a State from coronavirus based on the measures in Appendix 1 and any measures identified by the applicant in response to Application Requirement 1.

Demonstrates a rationale means a key project component included in the project's design is informed by research or evaluation findings that suggest the project component is likely to improve relevant outcomes.

Dislocated worker means an individual who—

(A)(i) Has been terminated or laid off, or who has received a notice of termination or layoff, from employment;

(ii)(I) Is eligible for or has exhausted entitlement to unemployment compensation; or

(II) Has been employed for a duration sufficient to demonstrate, to the appropriate entity at a one-stop center referred to in WIOA section 121(e), attachment to the workforce, but is not eligible for unemployment compensation due to insufficient earnings or having performed services for an employer that were not covered under a State unemployment compensation law; and

(iii) Is unlikely to return to a previous industry or occupation;

(B)(i) Has been terminated or laid off, or has received a notice of termination or layoff, from employment as a result of any permanent closure of, or any substantial layoff at, a plant, facility, or enterprise;

(ii) Is employed at a facility at which the employer has made a general announcement that such facility will close within 180 days; or

(iii) For purposes of eligibility to receive services other than training services described in WIOA section 134(c)(3), career services described in WIOA section 134(c)(2)(A)(xii), or supportive services, is employed at a facility at which the employer has made a general announcement that such facility will close;

(C) Was self-employed (including employment as a farmer, a rancher, or a fisherman) but is unemployed as a result of general economic conditions in the community in which the individual resides or because of natural disasters;

(D) Is a displaced homemaker; or

(E)(i) Is the spouse of a member of the Armed Forces on active duty (as defined in section 101(d)(1) of title 10, United States Code), and who has experienced a loss of employment as a direct result of relocation to accommodate a permanent change in duty station of such member; or

(ii) Is the spouse of a member of the Armed Forces on active duty and who meets the criteria described in WIOA section 3(16)(B).

Distance education means:

(1) Education that uses one or more of the technologies listed in paragraphs (2)(i) through (iv) of this definition to deliver instruction to students who are separated from the instructor or instructors and to support regular and substantive interaction between the students and the instructor or instructors, either synchronously or asynchronously.

(2) The technologies that may be used to offer distance education include—

(i) The internet;

(ii) One-way and two-way transmissions through open broadcast, closed circuit, cable, microwave, broadband lines, fiber optics, satellite, or wireless communications devices;

(iii) Audio conference; or

(iv) Other media used in a course in conjunction with any of the technologies listed in paragraph (2)(i) through (iii) of this definition.

(3) For purposes of this definition, an instructor is an individual responsible for delivering course content and who meets the qualifications for instruction established by an institution's accrediting agency.

(4) For purposes of this definition, substantive interaction is engaging students in teaching, learning, and assessment, consistent with the content under discussion, and also includes at least two of the following—

(i) Providing direct instruction;

(ii) Assessing or providing feedback on a student's coursework;

(iii) Providing information or responding to questions about the content of a course or competency;

(iv) Facilitating a group discussion regarding the content of a course or competency; or

(v) Other instructional activities approved by the institution's or program's accrediting agency.

(5) An institution ensures regular interaction between a student and an instructor or instructors by, prior to the student's completion of a course or competency—

(i) Providing the opportunity for substantive interactions with the student on a predictable and regular basis commensurate with the length of time and the amount of content in the course or competency; and

(ii) Monitoring the student's academic engagement and success and ensuring that an instructor is responsible for promptly and proactively engaging in substantive interaction with the student when needed on the basis of such monitoring, or upon request by the student.

Entrepreneurship education means the preparation of an individual to start and operate a new business venture through the development of knowledge and skills associated with entrepreneurship, including, but not limited to—

(a) Understanding the nature, role, and challenges of the entrepreneur;

(b) Identifying and assessing opportunities for new business ventures;

(c) Preparing a business plan and budgets and forecasting resource needs;

(d) Understanding and anticipating financing requirements, including the use of capital and debt as a means to finance a new business venture, the various strategies for attracting financing, and the trade-offs associated with each strategy;

(e) Examining the various business structure options for a new business venture, and understanding the benefits and tradeoffs offered by available organizational forms for a new business venture;

(f) Understanding and anticipating personnel needs for a new business venture;

(g) Examining cost-effective technologies for a new business venture;

(h) Understanding how effectively to market and advertise, including through the use of social and digital media, a new business venture;

(i) Examining common key legal issues experienced by new business ventures; and

(j) Examining how to manage for the survival and growth of a new business venture.

Institution of higher education (IHE) means—

(a) An educational institution in any State that—

(1) Admits as regular students only persons having a certificate of graduation from a school providing secondary education, or the recognized equivalent of such a certificate, or persons who meet the requirements of section 484(d) of the HEA;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of pre-accreditation status, and the Secretary has determined that there is satisfactory assurance that the institution will meet the accreditation standards of such an agency or association within a reasonable time.

(b) The term also includes:

(1) Any school that provides not less than a 1-year program of training to prepare students for gainful employment in a recognized occupation and that meets the provisions of paragraphs (1), (2), (4), and (5) of subsection (a) of this definition; and

(2) A public or nonprofit private educational institution in any State that, in lieu of the requirement in subsection (a)(1) of this definition, admits as regular students individuals—

(A) Who are beyond the age of compulsory school attendance in the State in which the institution is located; or

(B) Who will be dually or concurrently enrolled in the institution and a secondary school.

In-demand industry sector or occupation means: (1) An industry sector that has a substantial current or potential impact (including through jobs that lead to economic self-sufficiency and opportunities for advancement) on the State, regional or local economy, as appropriate, and that contributes to the growth or stability of other supporting businesses, or the growth of other industry sectors; or (2) an occupation that currently has or is projected to have a number of positions (including positions that lead to economic self-sufficiency and opportunities for advancement) in an industry sector so as to have a significant impact on the state, regional or local economy, as appropriate.¹²

¹² Workforce Innovation and Opportunity Act, Section 3(23).

Integrated education and training means a service approach that provides adult education and literacy activities concurrently and contextually with workforce preparation activities and workforce training for a specific occupation or occupational cluster for the purpose of educational and career advancement.

Industry recognized apprenticeship is a high-quality apprenticeship program, wherein an individual obtains workplace-relevant knowledge and progressively advancing skills, that include a paid-work component and an educational or instructional component, and that result in an industry-recognized credential. An IRAP is developed or delivered by entities such as trade and industry groups, corporations, non-profit organizations, educational institutions, unions, and joint labor-management organizations. An IRAP is an apprenticeship program that has been recognized as a high-quality program by an SRE pursuant to 29 CFR 29.22(a)(4)(i) through (x) and otherwise meets the requirements of 29 CFR part 29, subpart B.

Industry-recognized credential means a credential that verifies a person's qualifications or competence in performing specific skills or meeting specific industry performance requirements, and which employers rely upon in hiring and promotion decisions.

Industry sector-based education and training programs means programs that are designed to meet the training and education needs of a particular industry sector (or subsector)—such as advanced manufacturing, healthcare, transportation, information technology, cybersecurity, hospitality and tourism, personal services, etc.—as identified by business owners and leaders who work or represent companies in that sector, and that enable learners to enter employment or qualify for promotions at companies within the industry sector upon completion.

Micro-credential means certifications that verify an individual's competence in a specific skill or set of skills within an occupation, and that meet the requirements of an industry-recognized credential as defined above.

Non-traditional education means education other than full-time, degree-yielding, ground-based classroom education and may include education and training that is delivered through distance learning, work based learning or virtual simulation modalities; by providers of sub-degree educational programs including employers, trade associations, unions, continuing education providers, non-accredited postsecondary providers and IHEs; or that result in credentials other than 2-year, 4-year or graduate degrees.

Performance measure means any quantitative indicator, statistic, or metric used to gauge program or project performance.

Performance target means a level of performance that an applicant would seek to meet during the course of a project or as a result of a project.

Pre-apprenticeship means a program or set of services designed to prepare individuals to enter and succeed in a Registered Apprenticeship program or an Industry Recognized Apprenticeship Program and has a documented partnership with at least one Registered Apprenticeship or Industry Recognized Apprenticeship program.

Project component means an activity, strategy, intervention, process, product, practice, or policy included in a project. Evidence may pertain to an individual project component or to a combination of project components (e.g., training teachers on instructional practices for English learners and follow-on coaching for these teachers).

Recognized postsecondary credential means a credential consisting of an industry-recognized certificate or certification, a certificate of completion of an apprenticeship, a license recognized by the State involved or Federal Government, or an associate or baccalaureate degree.

Registered Apprenticeship means a program registered by the U.S. Department of Labor or a U.S. Department of Labor approved State Apprenticeship Agency that provides an industry-driven, high-quality career pathway where employers can develop and prepare their future workforce, and individuals can obtain paid work experience, classroom instruction, and a portable credential.¹³

¹³ https://www.govinfo.gov/content/pkg/FR-2020-03-11/pdf/2020-03605.pdf.

Relevant outcome means the student outcome(s) or other outcome(s) the key project component is designed to improve, consistent with the specific goals of the program.

Small business incubator means a facility that is often on a IHE campus, or is affiliated with an IHE, that offers startup companies shared operation space, access to short-term classes and instruction, provides mentoring and networking opportunities, and provides access to shared facilities, services, personnel and/or equipment.

Short-term educational program means a program that provides not less than 150, and not more than 600, clock hours of instructional time (or equivalent) over a period of not less than 8 weeks and not more than 15 weeks. Short-term programs lead to certificates, badges, micro-credentials, licenses and other workplace-relevant credentials, respond to the needs of employers and create opportunities for individuals to more rapidly prepare for, and over time adapt to, changing workplace needs.

Standards Recognition Entities means an entity that is qualified to recognize apprenticeship programs as Industry-Recognized Apprenticeship Programs and that has been recognized by the U.S. Department of Labor.

State means each of the 50 States, the District of Columbia, and Puerto Rico.

State Workforce Board means the group of leaders appointed by the governor from state, business, industry, labor, education and community-based organizations to advise the governor on performing the duties and responsibilities required by the Federal Workforce Innovation and Opportunity Act.

Third-party intermediaries means an organization or individual that provides industry or occupation-specific expertise to support employers in a particular industry sector, coordinate partner responsibilities, and provide program administration to aggregate demand for educational services, particularly for small and medium-sized employers that may not have the capacity to operate educational, work-based learning or apprenticeship programs on their own, and assist with instruction and support services.

Work-based learning means sustained interactions with industry or community professionals in real workplace settings to the extent practicable, or simulated environments at an educational institution that foster in-depth, firsthand engagement with the tasks required in a given career field, that are aligned to curriculum and instruction.

Application Requirements: The following application requirements are established for the FY 2020 ESF-RWP Grant competition and any subsequent year in which we make awards from the list of unfunded applications from this competition, in accordance with section 437(d)(1) of GEPA, 20 U.S.C. 1232(d)(1). Applicants must address the following application requirements:

(1) Include a description of the State's coronavirus burden based on indicators and information factors other than those provided in Appendix 1 that demonstrate the significance of the impact of COVID-19 on students, employers, small businesses and economic development in the State. This may include additional data, including other public health measures such as coronavirus-related deaths per capita, or any other relevant education, labor, or demographic data.

(2) Describe the applicant's approach to addressing Absolute Priority 1 or 2. This description must include a list of organizations and entities that will be included as partners in developing and implementing the planned activities, an implementation plan and timeline for key grant activities and a plan for how the applicant will collect data to report on the performance measures for this program. It must also include the estimated number of students, businesses, and IHEs, if applicable, that the applicant intends to serve with grant funds. The applicant must also list other sources of Federal funds it is seeking or has secured, under the CARES Act or other Federal grant programs, to carry out the same, similar or related activities to those proposed in the applicant's plan.

(3) Provide an analysis of State assets and collaborative efforts (including supports already provided from Federal and non-Federal sources) to respond to the economic impacts of COVID-19 and the need for short-term educational programs, including those that support small business owners and entrepreneurs and/or those that provide industry sector-based education and training programs that lead to industry-recognized credentials in the case of an application that addresses Absolute Priority 1 or the need for short-term educational programs and courses for small business and/or small business incubators (or similar entities) in the case of an application that addresses Absolute Priority 2.

(4) A description of the steps the State is taking at the time of the application to identify and address the State's immediate needs outlined in application requirement (2), including:

(a) For applicants addressing Absolute Priority 1(a)—

(i) How the State is meeting the education, support, and mentorship needs of individuals who seek career preparation or advancement through short-term educational programs and career pathways programs;

(ii) Which short-term educational programs or career pathways programs will be the focus of the grant activities; and

(iii) Which occupations or occupational clusters will be the focus of the grant activities; or

(b) For applicants addressing Absolute Priority 1(b)—

(i) How the State will identify the industry sectors and sector leaders that will engage in developing and implementing sector-based education, training, and credentialing programs;

(ii) Prior experience the State has in leading sector-based education and training activities, including in the development of sector-based apprenticeship programs;

(iii) How the State will recruit businesses and employers that will participate in the program and rely on credentials earned through industry sector-based education and training programs to hire and promote employees; and

(iv) Which educational providers, which may include IHEs or other post-secondary education and training providers, have experience in working with industry leaders or employers to develop or provide competency-based education programs and which educational providers have committed to partner with the applicant on the proposed project; or

(c) For applicants addressing Absolute Priority 2—

(i) How the State is currently providing education, training and support to entrepreneurs and small business owners;

(ii) How the State will build upon prior experiences with small business incubators or identify which kinds of small businesses it can best serve through one or more small business incubators that are affiliated with one or more IHEs;

(iii) How the State will identify institutional partners, geographic location(s) or industry sector(s) to be served by one or more small business incubators developed with these grant funds;

(iv) The specialized assistance, facilities, shared equipment and other shared resources that will be provided by the proposed small business incubator; and

(v) Other sources of funding or continuing support that will enable the small business incubator to continue operating after the expiration of these grant funds.

(5) Describe how the applicant will recruit unemployed or dislocated workers; workers seeking job transition or advancement; entrepreneurs; small business owners or other participants who would benefit from the education, training and/or business development opportunities that will be provided with grant funds, and how the applicant will determine participation if demand exceeds supply.

(6) Provide an assurance that the applicant will provide information to the Secretary, as requested, for evaluations that the Secretary may carry out.

Program Requirement: The following program requirement is established for the FY 2020 ESF-RWP Grants competition and any subsequent year in which we make awards from the list of unfunded applications from this competition, in accordance with section 437(d)(1) of GEPA, 20 U.S.C. 1232(d)(1):

Grantees must make information on all credentials (including badges, certificates, certifications, licenses, and degrees of all levels and types) and competencies (knowledge, skills and abilities) achieved as a result of funding under this program publicly accessible through the use of linked open data formats that support full transparency and interoperability. Such information must include the industry sector for or by which the credential was developed, the entities involved in the development of the credential, the competencies or skills assessed in awarding the credential, the form of assessment used to verify an individual's eligibility to be awarded the credential, and the body engaged in overseeing the awarding of such credentials.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program under section 18001(a)(3) of the CARES Act, and therefore qualifies for this exemption. In order to ensure timely grant awards, the Secretary has decided to forgo public comment on the priorities, requirements, definitions, and selection criteria under section 437(d)(1) of GEPA.

Program Authority: Section 18001(a)(3) of VIII of Division B of the CARES Act, Public Law 116-36 (enacted March 27, 2020).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Estimated Available Funds: $127,500,000. These estimated available funds are the amount available for ESF-RWP grants under the FY 2020 CARES Act. The Department will determine the number of awards to be made under each absolute priority based on the quality of applications received consistent with the selection criteria and priorities. It will also determine the size of an award made to an eligible applicant based on a review of the eligible applicant's budget. The Department may use any unused funds designated for this competition to make awards under the ESF-REM program.

Estimated Range of Awards: $5,000,000-$20,000,000.

Estimated Average Size of Awards: $15,000,000.

Estimated Number of Awards: 8-9.

Note: The Department is not bound by any estimates in this notice.

Project Period: Up to 36 months.

III. Eligibility Information

1. Eligible Applicants: The eligible applicant is a State Workforce Board.

Note: A State may submit only one application in response to this notice to implement a proposed project that addresses either Absolute Priority 1 or Absolute Priority 2, but not both.

2. Cost Sharing or Matching: This program does not require cost sharing or matching.

3. Subgrantees: Under 34 CFR 75.708(b) and (c) a grantee under this competition may award subgrants—to directly carry out project activities consistent with the Statewide strategy described in its application—to the following types of entities: IHEs; local workforce development boards; business trade and professional organizations; business development organizations; non-IHE postsecondary and employer-based education and training providers; third-party work-based learning or apprenticeship intermediaries; and State, regional, and local public and private agencies.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make timely awards.

3. Funding Restrictions: We reference regulations outlining funding restrictions in the Applicable Regulations section of this notice. Each eligible entity may charge an amount of administrative costs that is reasonable and necessary to effectively administer the program consistent with cost principles in 2 CFR part 200, subpart E, of the Uniform Administrative Requirements, Cost Principles, and Audit Requirements for Federal Awards (Uniform Guidance). Administrative costs include costs (direct and indirect) involved in the proper and efficient performance and administration of this Federal grant. However, to maximize the funds available for services to students and the public, the Department encourages each eligible entity and subgrantee to minimize the amount of administrative costs charged to the program.

ESF-RWP projects should be designed to cover a student's cost of attendance—including through funds provided by this grant, employer contributions, contributions made by trade associations or labor organizations, or other sources of funding—without requiring the student to take Direct student loans.

Additionally, students whose tuition and fees are covered by grant funds must be eligible for public benefits as described in section 431 of the Personal Responsibility and Work Opportunity Reconciliation Act of 1996 (8 U.S.C. 1611).

Recommended Page Limit: The application narrative (Part III of the application) is where you, the applicant, address the selection criteria that reviewers use to evaluate your application. We recommend that you (1) limit the application narrative to no more than 25 pages and (2) use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the letters of support, or the appendices. However, the recommended page limit does apply to all of the application narrative.

5. Notice of Intent to Apply: We will be able to develop a more efficient process for reviewing grant applications if we know the approximate number of applicants that intend to apply for funding under this competition. Therefore, the Secretary strongly encourages each potential applicant to notify us of the applicant's intent to submit an application by sending an email to ESF-RWP@ed.gov with Intent to Apply in the subject line. Applicants that do not send a notice of intent to apply may still apply for funding.

V. Application Review Information

1. Selection Criteria: The selection criteria for this competition are from 34 CFR 75.210 or are established for the FY 2020 grant competition and any subsequent year in which we make awards from the list of unfunded applications from this competition, in accordance with section 437(d)(1) of GEPA, 20 U.S.C. 1232(d)(1). The points assigned to each criterion are indicated in the parentheses next to the criterion. An applicant may earn up to a total of 100 points based on the selection criteria for the application.

A. Highest Coronavirus Burden (Up to 40 Points)

In determining the States with the highest coronavirus burden, the Secretary considers the extent to which the State has a high coronavirus burden as follows:

(1) The extent to which the applicant, based on the factors listed in the Appendix, when weighted equally, is in the—

(i) Up to 20th percentile of coronavirus burden (4 points);

(ii) 21st to 40th percentile of coronavirus burden (8 points);

(iii) 41st to 60th percentile of coronavirus burden (12 points);

(iv) 61st to 80th percentile of coronavirus burden (16 points); or

(v) 81st to 100th percentile of coronavirus burden (20 points).

(2) The extent to which the applicant has a high coronavirus burden based on indicators and information factors identified by the applicant in response to Application Requirement 1. (20 points) (GEPA Waiver)

B. Quality of Project Services and Quality of the Project Design (Up to 35 Points)

The Secretary considers the quality of the services to be provided by the proposed project and the quality of the design of the proposed project.

In determining the quality of the project services and the quality of the design of the proposed project, the Secretary considers the quality and sufficiency of strategies for ensuring equal access and treatment for eligible project participants who are members of groups that have traditionally been underrepresented based on race, color, national origin, gender, age, or disability. (up to 5 points) (34 CFR 75.210)

In addition, the Secretary considers—

(1) The extent to which the proposed project is an exceptional approach to the absolute priority being addressed and includes a detailed project plan for addressing the absolute priority. (up to 10 points) (GEPA Waiver)

(2) The extent to which specific gaps or weaknesses in services, infrastructure, or opportunities have been identified and will be addressed by the proposed project, including the nature and magnitude of those gaps or weaknesses. (up to 10 points) (34 CFR 75.210)

(3) The likelihood that services to be provided by the proposed project (for applicants under Absolute Priority 1) will expand access to remote learning options and lead to improvements in student outcomes; or the likelihood that services to be provided by the proposed project (for applicants under Absolute Priority 2) will increase the number and success of small businesses in a state or region. (up to 5 points) (GEPA Waiver)

(4) The extent to which the services to be provided by the proposed project reflect up-to-date knowledge from research and effective practice. (up to 5 points) (34 CFR 75.210)

C. Quality of the Management Plan and Adequacy of Resources (Up to 25 Points)

The Secretary considers the quality of the management plan and adequacy of resources for the proposed project. In determining the quality of the management plan and adequacy of resources for the proposed project, the Secretary considers—

(1) The adequacy of the management plan to achieve the objectives of the proposed project on time and within budget, including clearly defined responsibilities, timelines, and milestones for accomplishing project tasks. (34 CFR 75.210) (up to 5 points)

(2) The extent to which the budget is adequate to support the proposed project. (up to 5 points) (34 CFR 75.210)

(3) The extent to which the costs are reasonable in relation to the objectives, design, and potential significance of the proposed project. (34 CFR 75.210) (up to 5 points)

(4) The extent to which the costs are reasonable in relation to the number of persons to be served and to the anticipated results and benefits. (34 CFR 75.210) (up to 10 points)

2. Proposed Use of Funds: Applicants must describe the services and assistance, consistent with allowable uses of funds under the FY 2020 ESF-RWP Grants program, which they propose to provide with the project funds.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) In addition to annual performance reporting, a grantee must submit to the Department a quarterly report that provides data and information meeting the requirements of section 15011 of the CARES Act.

(c) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: We have established the following performance measures for the ESF-RWP Grants program:

(1) For Applications Addressing Absolute Priority 1

(a) The number of students served by the project; the percentage of students who enrolled in a program receiving grant funds who completed the program;

(b) The percentage of individuals who enrolled in a program receiving grant funds who were employed in the second quarter after exiting the program; and

(c) The percentage of individuals employed in the second quarter after exit who are employed full-time in an occupation that is directly related to the program of study; and

(d) The median earnings of individuals in (b) and (c).

(2) For Applicants Addressing Absolute Priority 2—

(a) The number of individuals who participated in the short-course or programs offered by the business incubator and one year after its completion had started a new business venture or maintained/expanded their existing small business;

(b) For small business owners who participated in a small business incubator, the number of employees employed at the start of their participation in this program, and at the end of their participation in the program and whether or not they were still in business one year after completing the program.

In addition, applicants must propose project-specific performance measures and performance targets consistent with the objectives of the proposed project.

Applicants must provide the following information as directed under 34 CFR 75.110(b) and (c):

(a) Performance Measures. How each proposed performance measure would accurately measure the performance of the project and how the proposed performance measures would be consistent with the performance measures established for the program funding the competition.

(b) Baseline Data.

(i) Why each proposed baseline is valid; or

(ii) If the applicant has determined that there are no established baseline data for a particular performance measure, an explanation of why there is no established baseline and of how and when, during the project period, the applicant would establish a valid baseline for the performance measure.

(c) Performance Targets. Why each proposed performance target is ambitious yet achievable compared to the baseline for the performance measure and when, during the project period, the applicant would meet the performance target(s).

(d) Data Collection and Reporting.

(i) The data collection and reporting methods the applicant would use and why those methods are likely to yield reliable, valid, and meaningful performance data; and

(ii) The applicant's capacity to collect and report reliable, valid, and meaningful performance data, as evidenced by high-quality data collection, analysis, and reporting in other projects or research.

All grantees must submit an annual performance report with information that is responsive to these performance measures.

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

Appendix

Percentile calculation of Coronavirus burden by State, as referenced in Section (V)(1)(A).

¹⁴ The initial unemployment insurance claims filed as a percentage of each State's civilian labor force are provided here for informational purposes, and the Department will update these data as of the deadline for transmittal of applications, which may adjust State percentiles and rankings.

¹⁵ The COVID-19 per 100,000 persons percentages for each State are provided here for informational purposes, and the Department will update these data as of the deadline for transmittal of applications, which may adjust State percentiles and rankings.

State | 1—Percentage of population without broadband access | 2—Initial unemployment insurance claims filed (as % of civilian labor force) 14 | 3—State % share of confirmed coronavirus cases per 100,000 persons 15 | Percentile based on 3 factors weighted equally
Alabama | 16.5 | 23.80 | 1.44 | 61st to 80th percentile.
Alaska | 10.3 | 30.33 | 0.24 | 41st to 60th percentile.
Arizona | 11.7 | 17.07 | 1.07 | 20th percentile or lower.
Arkansas | 19.2 | 16.42 | 0.94 | 41st to 60th percentile.
California | 8.9 | 24.48 | 1.09 | 21st to 40th percentile.
Colorado | 8.2 | 13.56 | 1.78 | 20th percentile or lower.
Connecticut | 8.9 | 19.38 | 4.56 | 61st to 80th percentile.
Delaware | 9.2 | 21.27 | 3.81 | 61st to 80th percentile.
District of Columbia | 11.7 | 23.47 | 4.80 | 81st to 100th percentile.
Florida | 12.5 | 23.19 | 0.99 | 41st to 60th percentile.
Georgia | 13.2 | 42.62 | 1.73 | 81st to 100th percentile.
Hawaii | 10.2 | 36.32 | 0.16 | 61st to 80th percentile.
Idaho | 10 | 15.94 | 0.63 | 20th percentile or lower.
Illinois | 11 | 17.52 | 3.62 | 61st to 80th percentile.
Indiana | 13.6 | 21.31 | 1.98 | 61st to 80th percentile.
Iowa | 11.9 | 18.92 | 2.38 | 41st to 60th percentile.
Kansas | 11.6 | 17.68 | 1.31 | 20th percentile or lower.
Kentucky | 14.4 | 41.29 | 0.86 | 81st to 100th percentile.
Louisiana | 17.6 | 30.38 | 3.31 | 81st to 100th percentile.
Maine | 11.7 | 20.86 | 0.68 | 20th percentile or lower.
Maryland | 9 | 17.30 | 3.41 | 41st to 60th percentile.
Massachusetts | 8.7 | 24.34 | 5.56 | 81st to 100th percentile.
Michigan | 12.1 | 30.66 | 2.19 | 61st to 80th percentile.
Minnesota | 9.3 | 22.53 | 1.71 | 41st to 60th percentile.
Mississippi | 19.4 | 23.20 | 2.04 | 81st to 100th percentile.
Missouri | 13.1 | 19.02 | 0.83 | 21st to 40th percentile.
Montana | 12.2 | 19.76 | 0.19 | 20th percentile or lower.
Nebraska | 9.9 | 12.23 | 2.83 | 21st to 40th percentile.
Nevada | 11.3 | 30.49 | 1.09 | 61st to 80th percentile.
New Hampshire | 7.6 | 25.96 | 1.32 | 21st to 40th percentile.
New Jersey | 9.1 | 24.79 | 6.88 | 81st to 100th percentile.
New Mexico | 20.6 | 15.84 | 1.42 | 61st to 80th percentile.
New York | 11.7 | 25.85 | 7.40 | 81st to 100th percentile.
North Carolina | 13.2 | 19.84 | 1.07 | 21st to 40th percentile.
North Dakota | 15.1 | 17.19 | 1.32 | 41st to 60th percentile.
Ohio | 11.8 | 22.15 | 1.17 | 41st to 60th percentile.
Oklahoma | 14.4 | 26.29 | 0.61 | 41st to 60th percentile.
Oregon | 8.9 | 19.87 | 0.39 | 20th percentile or lower.
Pennsylvania | 11.9 | 29.55 | 2.17 | 61st to 80th percentile.
Puerto Rico | 33.6 | 26.50 | 0.46 | 81st to 100th percentile.
Rhode Island | 10.3 | 29.79 | 5.40 | 81st to 100th percentile.
South Carolina | 15.1 | 23.06 | 0.91 | 41st to 60th percentile.
South Dakota | 14.6 | 10.82 | 2.17 | 21st to 40th percentile.
Tennessee | 14.3 | 16.24 | 1.33 | 21st to 40th percentile.
Texas | 13.3 | 15.83 | 0.86 | 20th percentile or lower.
Utah | 7.1 | 10.21 | 1.22 | 20th percentile or lower.
Vermont | 13.9 | 19.68 | 0.60 | 21st to 40th percentile.
Virginia | 11 | 17.69 | 2.07 | 21st to 40th percentile.
Washington | 7.4 | 32.71 | 1.11 | 61st to 80th percentile.
West Virginia | 16.4 | 18.82 | 0.43 | 21st to 40th percentile.
Wisconsin | 11.4 | 18.81 | 1.21 | 21st to 40th percentile.
Wyoming | 11 | 14.08 | 0.60 | 20th percentile or lower.

Data sources and methodology:

Available Broadband Access

The number in column 1 is the percent of the population in each State without broadband access of any kind in 2018, as determined by 100 minus the percent of households with broadband access in 2018. The source for the percent of households with broadband access of any kind is the U.S. Census Bureau American Community Survey in 2018. This data may be retrieved through the customization of this table: https://data.census.gov/cedsci/table?q=S2802&tid=ACSST1Y2018.S2802.

Initial Unemployment Insurance Claims

The number in column 2 is the total number of initial unemployment insurance (UI) weekly claims reported by the State between the week ending March 14, 2020 and the week ending May 23, 2020 ¹⁶ divided by the number of individuals in the State's civilian labor force during March 2020.¹⁷ The UI weekly claims data are not seasonally adjusted. The source of the UI weekly initial claims data is the Unemployment Insurance Weekly Claims Report published by the Employment and Training Administration in the U.S. Department of Labor (DOL). The data may be retrieved from https://oui.doleta.gov/unemploy/claims_arch.asp. The source of the data on the State's civilian labor force is the Bureau of Labor Statistics in DOL. The data may be retrieved from https://www.bls.gov/news.release/laus.t01.htm.

¹⁶ Unlike the other weeks, the weekly initial unemployment claims for the week ending May 23, 2020 are the advanced initial unemployment claims, released on May 7, 2020.

¹⁷ The number for Puerto Rico's total civilian labor force is from February 2020 because data for March 2020 were not available.

COVID-19 Cases per 100,000 Persons

The number in column 3 is the percent share of total COVID-19 cases per 100,000 persons for each State. This number is derived by taking the total number of COVID-19 cases per 100,000 persons reported to the Centers for Disease Control, by State, as of 12:15 p.m. on June 2, 2020 and dividing that by the total number of cases per 100,000 persons in the U.S. State data on cases per 100,000 persons and the sum of all cases per 100,000 persons may be retrieved from the Centers for Disease Control at https://www.cdc.gov/covid-data-tracker/index.html by downloading the Excel document that accompanies the visual displays.¹⁸

¹⁸ Because the CDC's most recent report of the number of COVID-19 cases per 100,000 persons for New York State did not include New York City, the number of cases per 100,000 persons for New York State used in the table is from the database of COVID-19 cases in New York State published by the New York Times on June 2, 2020 at 2:05 p.m. at https://www.nytimes.com/interactive/2020/us/new-york-coronavirus-cases.html.

Ranking Methodology

To determine ranking, States were assigned total burden scores based on sum of the values of the indicators relative to one another.¹⁹ All three indicators were weighted equally in calculating burden scores. Higher values on the indicators shows higher need for the State (e.g., higher share of COVID-19 cases, higher percentage of households without broadband access, etc.). The States were then ranked based on their total burden scores. Points were then awarded by the percentile of their rank as indicated below.

¹⁹ Each indicator is worth 33.3 points out of 100 possible total burden points. The State with the highest burden for an indicator is awarded 33.3 points and all other States are assigned points based on the percentage of their burden relative to the State with the highest burden for that indicator. Total burden is the sum of all the points for each indicator.

²⁰ Higher scores indicate higher burden.

Percentile | Number of points awarded | State ranks ²⁰
81st to 100th percentile | 20 | 43 through 52.
61st to 80th percentile | 16 | 32 through 42.
41st to 60th percentile | 12 | 22 through 31.
21st to 40th percentile | 8 | 11 through 21.
20th percentile and below | 4 | 1 through 10.

[FR Doc. 2020-13480 Filed 6-22-20; 8:45 am]

BILLING CODE 4000-01-P